ENVIRONMENTAL PROTECTION AGENCY

[FRL-8189-4]

Public Law-105-270, The Federal Activities Inventory Reform Act (FAIR) of 1998; Notice of Public Availability of EPA Revised 2005 Inventory of Activities That Are Not Inherently Governmental and of Activities That Are Inherently Governmental

AGENCY: Environmental Protection Agency (EPA).

ACTION: Notice.

SUMMARY: In accordance with the FAIR Act, agency revised inventories of activities that are not inherently governmental are now available to the public from the Environmental Protection Agency. The FAIR Act requires that the agency publish an announcement of public availability of the 2005 agency inventories of activities that are not inherently governmental when the FAIR Act Challenge Process results in a change to an agency inventory.

This is the second release of the 2005 FAIR Act inventories. The EPA has made the revised 2005 FAIR Act inventories available for review through http://www.epa.gov/oarm/inventory/2005/2005inventory.html.

ADDRESSES: Questions may be directed to Barbara Stearrett at: Stearrett.Barbara@epa.gov. U.S. Environmental Protection Agency, OARM/Office of Competitive Sourcing (Mail Code: 3101A), 1200 Pennsylvania Avenue, NW., Washington, DC 20460.

FOR FURTHER INFORMATION CONTACT: Barbara Stearrett at (202) 566-1970.

Dated: June 22, 2006.
Susan Kantrowitz,
Team Leader, Information and Human Resources Team, Office of Policy and Resources Management.

[FR Doc. E6-10101 Filed 6-26-06; 8:45 am]

BILLING CODE 6560-50-P